DEPARTMENT OF AGRICULTURE

Forest Service

Bridger-Teton National Forest—Wyoming—Big Piney, Grey River and Jackson Ranger Districts; Sublette and Lincoln Counties, WY; Environmental Impact Statement for Wyoming Range Allotment Complex

AGENCY: Forest Service, USDA.

ACTION: Notice of intent to prepare an environmental impact statement.

SUMMARY: The Wyoming Range Allotment Complex (composed of the Corral Creek, Mule Creek, Grizzly Creek, Pickle Pass, Upper Grayback/Phosphate, North Horse, and Prospect Peak domestic sheep allotments) is located in Townships 34, 35, 36 and 37 North, Ranges 114, 115 and 116 West; Sixth Principal Meridian. The majority of the area (65%) is located within Sublette County, with the remainder being in Lincoln County. The complex is located on three districts—Greys River, Jackson, and Big Piney. Big Piney Ranger District administers all the allotments except Pickle Pass, which is administered by the Greys River District.

DATES: Comments concerning the scope of the analysis must be received by May 11, 2003. The draft environmental impact statement is expected July 2003 and the final environmental impact statement is expected September 2003.

ADDRESSES: Send written comments to: District Ranger, Big Piney Ranger District, Box 218, Big Piney, Wyoming 83113. For further information, mail correspondence to mailroom_r4_bridger_teton@fs.fed.us and on the subject line put only “Wyoming Range Complex.”

FOR FURTHER INFORMATION CONTACT: District Ranger, Big Piney Ranger District, Box 218, Big Piney, Wyoming 83113 or phone (307) 276-3710.

SUPPLEMENTARY INFORMATION:

Purpose and Need for Action

The Purpose and Need is to make recommendations on interpretation and site specific application of Forest Plan standards and guidelines to determine whether or not to allow domestic livestock grazing on the allotment complex.

To date, the Forest Service has identified four alternatives:

Alternative 1—Proposed Action

The Forest Service proposes to determine on the allotment complex if livestock grazing of 5 sheep bands will continue to be authorized on the allotment complex. All vacant allotment and allotment boundary changes have been incorporated into the complex through the administrative process as defined in FSH 2209.13—Grazing Permit Administration Handbook, Chapter 90—Rangeland Management Decision Making, Interim Directive No.: 2209.13-2002-4 Section 96—Delineation of Grazing Allotments and Section 98—Allotment Management Changes.

Possible Alternative

Alternative 2—No Action—Continue With the Current Livestock Management

The current management provides for grazing 5 bands of sheep on the allotment complex. All vacant allotment and allotment boundary changes have been incorporated into the complex through the administrative process as defined in FSH 2209.13—grazing permit administration handbook, chapter 90—rangeland management decision making, Interim Directive No.: 2209.13-2002-4 Sections 96—Delineation of Grazing Allotments and section 98—Allotment Management Changes.

Alternative 3—Separation Between Domestic Sheep Grazing Area and the Bighorn Sheep Core Area Boundary—Close Upper Grayback/Phosphate, Pickle Pass, Grizzly Creek and a Portion of Corral Creek Allotments to Domestic Sheep Grazing

This alternative would close the Upper Grayback/Phosphate, Pickle Pass, Grizzly Creek and approximately ⅔ of the Corral Creek allotments to domestic sheep grazing. The remaining area of Corral Creek allotment would be combined with the North Horse Creek Allotment and would remain open to domestic sheep grazing. This alternative provides separation from the bighorn sheep core native herd boundary and would include all the management actions described in the proposed action.

Alternative 4—No Livestock Grazing

No domestic livestock would be allowed to graze on the allotment complex. We are required in 40 CFR 1502.14(d) and Forest Service Handbook 1909.15, 23.1 to consider the No Livestock Grazing alternative in detail and to use it as a “baseline” for comparing the effects of the other alternatives.

Responsible Officials

Greg Clark, District Forest Ranger, Big Piney Ranger District, P.O. Box 218, Big Piney, Wyoming 83113. District Forest Ranger, Greys River Ranger District, P.O. Box 339, Afton, Wyoming 83110 Nancy Hall, District Forest Ranger, Jackson Ranger District, P.O. Box 1689, Jackson, Wyoming 83001.

Nature of Decision To Be Made

The decision, which is based on this analysis, will be decide if livestock will be allowed to graze on the allotment complex, either through the implementation of the proposed action, or an alternative to the proposed action. The decision would include any mitigation measures needed in addition to those prescribed in the Forest Plan.

Scoping Process

The Forest Service is seeking information, comments, and assistance from individuals, organizations, tribal governments, and federal, state, and local agencies interested in or affected by this project. Comments submitted on the 1999 scoping effort, comments on the Environmental Assessment released in December of 2002, previous field trips, and any new comments will be used to prepare the Draft Environmental Impact Statement (DEIS). Public participation will be solicited by notifying in person and/or by mail known interested and affected publics. News releases will be used to give the public general notice. Public participation activities would include requests for written comments. The first formal opportunity to comment is to respond to this notice of intent, which initiates the scoping process (40 CFR 1501.7). Scoping includes: (1) Identifying potential issues, (2) narrowing the potential issues and identifying significant issues of those that have been covered by prior environmental review, (3) exploring alternatives in addition to No Action, and (4) identifying potential environmental effects of the proposed action and alternatives.

Preliminary Issues

The Forest Service has identified the following potential issues. In addition, through the April 1999 scoping effort and comments received on the Environmental Assessment released in December 2002, issues have been refined. Your input is especially valuable here. It will help us determine which of these merit detailed analysis. It will also help identify additional issues related to the proposed action that may not be listed here.

Issue 1—Effects of grazing on vegetation.

Issue 2—Effects of grazing on watershed condition and function.

Issues 3—Effects of livestock on big horn sheep.

Issue 3—Effects of grazing on the Colorado cutthroat trout habitat.

Comment Requested

This notice of intent initiates the scoping process that guides the development of the environmental impact statement.

Early Notice of Importance of Public Participation in Subsequent Environmental Review

The Draft EIS (DEIS) is proposed to be filed with the Environmental Protection Agency (EPA) and to be available for public comment in the Spring of 2003. At that time, the EPA will publish a notice of availability for the DEIS in the Federal Register. The comment period on the DEIS will be 45 days from the date the EPA publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45 day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: April 3, 2003.
Greg Clark,
District Forest Ranger.

[FR Doc. 03-8630 Filed 4-8-03; 8:45 am]

BILLING CODE 3410-11-M